DEPARTMENT OF HOMELAND SECURITY

Coast Guard

33 CFR Part 100

[Docket No. USCG-2023-0378]

Special Local Regulations; Marine Events Within the Fifth Coast Guard District—Cape May, NJ

AGENCY: Coast Guard, DHS.

ACTION: Notification of enforcement of regulation.

SUMMARY: The Coast Guard will enforce a special local regulation for the Around the Island Paddle on June 25, 2023. This action is necessary to provide for the safety of life on navigable waterways during this event. Our regulation for marine events within the Fifth Coast Guard District identifies the regulated area for this event. During the enforcement period, the operator of any vessel in the regulated area must comply with directions from the Patrol Commander or any Official Patrol displaying a Coast Guard ensign. Non-participants must request permission to enter the regulated area.

DATES: The regulation 33 CFR 100.501 will be enforced for the special local regulation listed in Table 1 to Paragraph (i)(1) of § 100.501 for the Around the Island Paddle from 8 a.m. through 1 p.m. on June 25, 2023.

FOR FURTHER INFORMATION CONTACT: If you have questions about this notice of enforcement, you may call or email Petty Officer Dylan Caikowski, U.S. Coast Guard, Sector Delaware Bay, Waterways Management Division, telephone 215-271-4814, email SecDelBayWWM@uscg.mil.

SUPPLEMENTARY INFORMATION: The Coast Guard will enforce the special local regulation in Table 1 to Paragraph (i)(1) in 33 CFR 100.501 for the regulated area of the Around the Island Paddle from 8 a.m. through 1 p.m. on June 25, 2023. This action is being taken to provide for the safety of life on navigable waterways during this event. Our regulation for marine events within the Fifth Coast Guard District, § 100.501, specifies the location of the regulated area for the “Around the Island Paddle” which encompasses portions of Cape May Harbor, Atlantic Ocean, and Delaware Bay in Cape May, NJ. During the enforcement period, as reflected in § 100.100(g), if you are the operator of a vessel in the regulated area, you must comply with directions from the Patrol Commander or any Official Patrol displaying a Coast Guard ensign. Non-participants are only allowed inside the regulated area to pass through or enter and remain within a designated spectator area. A non-participant must contact the Event Patrol Commander or an official patrol vessel to request permission to either enter the Spectator Area or pass through the regulated area.

In addition to this notification of enforcement in the Federal Register, the Coast Guard plans to provide notification of this enforcement period via the Local Notice to Mariners and Broadcast Notice to Mariners.

Dated: May 30, 2023.
Jonathan D. Theel,
Captain, U.S. Coast Guard, Captain of the Port, Sector Delaware Bay.

[FR Doc. 2023-11984 Filed 6-5-23; 8:45 am]

BILLING CODE 9110-04-P